DEPARTMENT OF HOUSING AND URBAN DEVELOPMENT

[Docket No. FR-5481-N-08]

Notice of Proposed Information Collection for Public Comment; Continuum of Care Check-up Assessment Tool

AGENCY: U.S. Department of Housing and Urban Development (HUD), Office of the Assistant Secretary for Community Planning and Development. .

ACTION: Notice of proposed information collection.

SUMMARY: The proposed information collection requirement described below will be submitted to the Office of Management and Budget (OMB) for review, as required by the Paperwork Reduction Act. The Department is soliciting public comments on the subject proposal.

DATES: Comments Due Date: August 15, 2011.

ADDRESSES: Interested persons are invited to submit comments regarding this proposal. Comments should refer to the proposal by name/or OMB Control number and should be sent to: Colette Pollard, Departmental Reports Management Officer, QDAM, Department of Housing and Urban Development, 451 7th Street, SW., Room 4160, Washington, DC 20410-5000; telephone (202) 402-3400, (this is not a toll-free number) or e-mail Ms. Pollard at Colette_Pollard@hud.gov for a copy of proposed forms, or other available information. Persons with hearing or speech impairments may access this number through TTY by calling the toll-free Federal Information Relay Service at (800) 877-8339.

FOR FURTHER INFORMATION CONTACT: Ann Marie Oliva, Director, Office of Special Needs Assistance Programs, Office of Community Planning and Development, Department of Housing and Urban Development, 451 7th Street, SW., Room 7262, Washington, DC 20410; telephone (202) 708-1590 (This is not a toll-free number).

SUPPLEMENTARY INFORMATION: The Department will submit the proposed information collection to OMB for review, as required by the Paperwork Reduction Act of 1995 (44 U.S.C. chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Continuum of Care Check-up Assessment Tool.

Description of the need for the information proposed: The CoC Check-up Tool will enhance CoCs awareness of their functional capacity to assume the new responsibilities outlined in the McKinney-Vento Act, as amended by HEARTH. Communities will self-identify and prioritize areas where capacity improvement is needed. HUD will garner information to assess and direct technical assistance needs, prepare for training conferences, develop sample tools and templates, guidebooks, white papers, webinars, FAQs, and staff the Virtual Help Desk to best help communities plan their transition.

Agency Form Numbers

Members of the affected public: Continuum of Care lead persons, HMIS administrators, ESG grantee lead persons, and select grantees under the current CoC competitive grants (The Supportive Housing Program [SHP], Shelter Plus Care [S+C], and the Section 8 Moderate Rehabilitation for the Single Room Occupancy [SRO] Program), ESG grants, and HPRP grants.

Estimation of the total number of hours needed to prepare the information collection including number of respondents, frequency of response, and hours of response: 450 CoC respondents × 8 respondents per CoC = 3,600 respondents. 3,600 respondents × 90 minutes per response = 324,000 total minutes or 5,400 hours.

Status of proposed information collection: New Collection

Authority: Section 3506 of the Paperwork Reduction act of 1995, 44 U.S.C. chapter 35, as amended.

Dated: June 8, 2011.
Clifford D. Taffet,
General Deputy Assistant Secretary for Community Planning and Development.

[FR Doc. 2011-14724 Filed 6-13-11; 8:45 am]

BILLING CODE 4210-67-P